DEPARTMENT OF HOMELAND SECURITY

Transportation Security Administration

Intent To Request Approval From OMB of One New Public Collection of Information: Department of Homeland Security Traveler Redress Inquiry Program (DHS TRIP)

AGENCY: Transportation Security Administration, DHS.

ACTION: Notice.

SUMMARY: The Transportation Security Administration (TSA), as lead for DHS, invites public comment on a new information collection requirement abstracted below that we will submit to the Office of Management and Budget (OMB) for approval in compliance with the Paperwork Reduction Act.

DATES: Send your comments by March 6, 2007.

ADDRESSES: Comments may be mailed or delivered to Katrina Kletzly, Attorney-Advisor, Office of the Chief Counsel, TSA-2, Transportation Security Administration, 601 South 12th Street, Arlington, VA 22202-4220.

FOR FURTHER INFORMATION CONTACT: Katrina Kletzly at the above address, or by telephone (571) 227-1995 or facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA, on behalf of DHS, is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

The Rice-Chertoff Initiative (RCI) Department of Homeland Security Traveler Redress Inquiry Program (DHS TRIP) was developed as a voluntary program by DHS to provide a one-stop mechanism for individuals to request redress who believe they have been: (1) Denied or delayed boarding; (2) denied or delayed entry into or departure from the United States at a port of entry; or (3) identified for additional (secondary) screening at our Nation's transportation hubs, including airports, seaports, train stations and land borders. The DHS TRIP office will be located at, and managed by, TSA. In order for individuals to request redress, they are asked to provide identifying information, as well as details of the travel experience.

Description of Data Collection

The Traveler Inquiry Form (TIF) is an online form used to collect requests for redress by the DHS TRIP office, which will serve as a centralized intake office for traveler requests to have their personal information reviewed. DHS TRIP then passes the information to the relevant DHS component to process the request, as appropriate (e.g., DHS TRIP passes the form to DHS to initiate the Watch List Clearance Procedure). This collection serves to distinguish individuals from an actual individual on any watch list used by DHS, and it helps streamline and expedite future check-in or border crossing experiences.

DHS estimates completing the form, and gathering and submitting the information will take approximately one hour. The annual respondent population was derived from data compiled across all participating components (TSA, U.S. Customs and Border Protection (CBP), U.S. Immigration and Customs Enforcement (ICE), US-VISIT, DHS Office of Civil Rights and Civil Liberties (CRCL), and the DHS Privacy Office). Thus, the total estimated annual number of burden hours for passengers seeking redress, based on an estimated 31,980 annual respondents, is 31,980 hours (31,980 × 1).

Use of Results

The DHS TRIP office will use this information to conduct redress procedures for individuals who believe they have been (1) denied or delayed boarding, (2) denied or delayed entry into or departure from the United States at a port of entry, or (3) identified for additional screening at our Nation's transportation hubs, including airports, seaports, train stations and land borders.

Issued in Arlington, Virginia, on December 28, 2006.
Lisa S. Dean,
Privacy Officer.

[FR Doc. E6-22611 Filed 1-4-07; 8:45 am]

BILLING CODE 9110-05-P